DEPARTMENT OF TRANSPORTATION

14 CFR Part 97

[Docket No. 30625; Amdt. No. 3285]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 11, 2008. The compliance date for each SIAP, associated Takeoff Minimums, and ODP is specified in the amendatory provisions.

The incorporation by reference of certain publications listed in the regulations is approved by the Director of the Federal Register as of September 11, 2008.

ADDRESSES: Availability of matter incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs are available online free of charge. Visit http://nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420) Flight Technologies and Programs Division, Flight Standards Service, Federal Aviation Administration, Mike Monroney Aeronautical Center, 6500 South MacArthur Blvd., Oklahoma City, OK 73169 (Mail Address: P.O. Box 25082 Oklahoma City, OK 73125) telephone: (405) 954-4164.

SUPPLEMENTARY INFORMATION: This rule amends Title 14, Code of Federal Regulations, Part 97 (14 CFR part 97) by amending the referenced SIAPs. The complete regulatory description of each SIAP is listed on the appropriate FAA Form 8260, as modified by the National Flight Data Center (FDC)/Permanent Notice to Airmen (P-NOTAM), and is incorporated by reference in the amendment under 5 U.S.C. 552(a), 1 CFR part 51, and § 97.20 of Title 14 of the Code of Federal Regulations.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. This amendment provides the affected CFR sections and specifies the types of SIAP and the corresponding effective dates. This amendment also identifies the airport and its location, the procedure and the amendment number.

The Rule

This amendment to 14 CFR part 97 is effective upon publication of each separate SIAP as amended in the transmittal. For safety and timeliness of change considerations, this amendment incorporates only specific changes contained for each SIAP as modified by FDC/P-NOTAMs.

The SIAPs, as modified by FDC P-NOTAM, and contained in this amendment are based on the criteria contained in the U.S. Standard for Terminal Instrument Procedures (TERPS). In developing these changes to SIAPs, the TERPS criteria were applied only to specific conditions existing at the affected airports. All SIAP amendments in this rule have been previously issued by the FAA in a FDC NOTAM as an emergency action of immediate flight safety relating directly to published aeronautical charts. The circumstances which created the need for all these SIAP amendments requires making them effective in less than 30 days.

Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under DOT Regulatory Order 12866; (2) is not a “significant rule” under DOT regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC on August 22, 2008.
James J. Ballough,
Director, Flight Standards Service.

Adoption of the Amendment

Accordingly, pursuant to the authority delegated to me, Title 14, Code of Federal regulations, Part 97, 14 CFR part 97, is amended by amending Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

* * * Effective Upon Publication

FDC date | State | City | Airport | FDC No. | Subject
07/07/08 | TX | Alice | Alice International | 8/1741 | LOC/DME RWY 31, ORIG
07/07/08 | LA | Slidell | Slidell | 8/1742 | NDB RWY 36, ORIG-C
07/07/08 | LA | Baton Rouge | Baton Rouge Metro, Ryan Field | 8/1743 | ILS OR LOC RWY 22R, AMDT 10
07/07/08 | KS | Norton | Norton Muni | 8/1896 | RNAV (GPS) RWY 16, ORIG-A
07/07/08 | KS | Norton | Norton Muni | 8/1897 | RNAV (GPS) RWY 34, ORIG
07/07/08 | OK | Norman | University of Oklahoma Westheimer | 8/1898 | NDB RWY 35, ORIG-A
07/07/08 | OK | Oklahoma City | Will Rogers World | 8/1899 | ILS OR LOC RWY 17L, AMDT 1
08/08/08 | IN | Indianapolis | Indianapolis Intl | 8/1952 | RNAV (RNP) Z RWY 32, ORIG
08/08/08 | NJ | Millville | Millville Muni | 8/2039 | RNAV (GPS) RWY 14, ORIG
08/11/08 | ME | Augusta | Augusta State | 8/2203 | GPS RWY 17, ORIG
08/11/08 | PA | Lancaster | Lancaster | 8/2231 | RNAV (GPS) RWY 26, AMDT 1
08/11/08 | TN | Shelbyville | Bomar Field—Shelbyville Muni | 8/2244 | RNAV (GPS) Y RWY 36, ORIG
08/12/08 | FL | Lakeland | Lakeland Linder Regional | 8/2395 | ILS OR LOC RWY 5, AMDT 7
08/11/08 | MA | Westfield/Springfield | Barnes Muni | 8/2429 | VOR OR TACAN RWY 2, AMDT 4B
08/11/08 | MA | Westfield/Springfield | Barnes Muni | 8/2430 | GPS RWY 2, ORIG-A
08/11/08 | MA | Westfield/Springfield | Barnes Muni | 8/2433 | VOR RWY 20, AMDT 20A
08/13/08 | NY | Ithaca | Ithaca Tompkins Regional | 8/2877 | VOR OR GPS RWY 32, AMDT 1
08/13/08 | NY | Ithaca | Ithaca Tompkins Regional | 8/2878 | ILS RWY 32, AMDT 5A
08/14/08 | ME | Belfast | Belfast Muni | 8/2997 | NDB RWY 15, AMDT 3
08/14/08 | TN | Tullahoma | Tullahoma Regional/Wm Northern Fld | 8/3016 | VOR RWY 6, ORIG
08/14/08 | TN | Tullahoma | Tullahoma Regional/Wm Northern Fld | 8/3017 | VOR RWY 24, ORIG
08/14/08 | FL | Orlando | Orlando Executive | 8/3018 | TAKEOFF MINIMUMS AND OBSTACLE DP, AMDT 3
08/14/08 | TN | Tullahoma | Tullahoma Regional/Wm Northern Fld | 8/3019 | RNAV (GPS) RWY 24, ORIG
08/14/08 | TN | Tullahoma | Tullahoma Regional/Wm Northern Fld | 8/3021 | RNAV (GPS) RWY 6, ORIG
08/14/08 | NJ | Andover | Aeroflex-Andover | 8/3039 | RNAV (GPS) RWY 3, AMDT 1
08/14/08 | AL | Birmingham | Birmingham Intl | 8/3082 | RNAV (GPS) RWY 6, ORIG
08/14/08 | FM | Pohnpei Island | Pohnpei Intl | 8/3137 | NDB OR GPS-C, AMDT 3
08/14/08 | OR | Pendleton | Eastern Oregon Rgnl at Pendleton | 8/3174 | VOR OR GPS RWY 7, AMDT 14B
08/20/08 | AK | Anchorage | Merrill Field | 8/3297 | RNAV (GPS) A, ORIG
08/15/08 | CA | Riverside | Riverside Muni | 8/3310 | ILS OR LOC RWY 9, AMDT 7B
08/18/08 | OR | Roseburg | Roseburg Rgnl | 8/3341 | TAKEOFF MINIMUMS AND OBSTACLE DP, AMDT 5
08/18/08 | NH | Manchester | Manchester | 8/3600 | VOR RWY 35, AMDT 15C
08/18/08 | NH | Manchester | Manchester | 8/3601 | ILS OR LOC RWY 35, AMDT 1A; ILS RWY 35 (CAT II), AMDT 1A; ILS RWY 35 (CAT III), AMDT 1A
08/18/08 | PR | Isla De Vieques | Antonio Rivera Rodriguez | 8/3623 | RNAV (GPS) RWY 9, AMDT 1A
08/19/08 | CA | San Diego | Brown Field Muni | 8/3808 | TAKEOFF MINIMUMS AND OBSTACLE DP, AMDT 3
08/19/08 | WA | Spokane | Spokane Intl | 8/3855 | RNAV (GPS) RWY 21, ORIG-D
08/19/08 | TX | McAllen | McAllen Miller Intl | 8/3886 | ILS RWY 13, AMDT 8B
08/19/08 | TX | McAllen | McAllen Miller Intl | 8/3887 | VOR RWY 31, AMDT 1A
08/19/08 | IL | Chicago | Chicago-O'Hare Intl | 8/3930 | ILS OR LOC RWY 4R, AMDT 6I
08/19/08 | IL | Chicago | Chicago-O'Hare Intl | 8/3931 | ILS OR LOC RWY 32L, AMDT 2
08/19/08 | IL | Chicago | Chicago-O'Hare Intl | 8/3932 | RNAV (GPS) RWY 22R, AMDT 1
08/19/08 | IL | Chicago | Chicago-O'Hare Intl | 8/3933 | ILS OR LOC RWY 32R, AMDT 21B
08/19/08 | IL | Chicago | Chicago-O'Hare Intl | 8/3934 | RNAV (GPS) RWY 32L, AMDT 2A
08/19/08 | IL | Chicago | Chicago-O'Hare Intl | 8/3936 | LOC RWY 4L, AMDT 20
08/19/08 | IL | Chicago | Chicago-O'Hare Intl | 8/3938 | RNAV (GPS) RWY 14L, AMDT 1
08/19/08 | IL | Chicago | Chicago-O'Hare Intl | 8/3941 | ILS OR LOC RWY 22L, AMDT 4F
08/19/08 | IL | Chicago | Chicago-O'Hare Intl | 8/3942 | RNAV (GPS) RWY 14R, AMDT 1
08/19/08 | IL | Chicago | Chicago-O'Hare Intl | 8/3943 | RNAV (GPS) RWY 4R, ORIG-A
08/19/08 | IL | Chicago | Chicago-O'Hare Intl | 8/3944 | ILS OR LOC RWY 22R, AMDT 7E
08/19/08 | IL | Chicago | Chicago-O'Hare Intl | 8/3948 | RNAV (GPS) RWY 32R, AMDT 1
08/19/08 | IL | Chicago | Chicago-O'Hare Intl | 8/3949 | RNAV (GPS) RWY 4L, AMDT 1
08/19/08 | IL | Chicago | Chicago-O'Hare Intl | 8/3950 | RNAV (GPS) Y RWY 22L, ORIG-A
08/19/08 | IL | Chicago | Chicago-O'Hare Intl | 8/3952 | RNAV (GPS) Z RWY 22L, ORIG
08/20/08 | IL | Chicago | Chicago-O'Hare Intl | 8/4091 | ILS OR LOC RWY 14R, AMDT 30; ILS RWY 14R (CAT II), AMDT 30; ILS RWY 14R (CAT III), AMDT 30
08/20/08 | IL | Chicago | Chicago-O'Hare Intl | 8/4092 | ILS OR LOC RWY 14L, AMDT 29
08/20/08 | MD | Salisbury | Salisbury-Ocean City Wicomico Regional | 8/4188 | ILS RWY 32, AMDT 6
07/08/08 | UT | Salt Lake City | Salt Lake City Intl | 8/4753 | RNAV (GPS) RWY 17, ORIG
07/08/08 | UT | Salt Lake City | Salt Lake City Intl | 8/4754 | VOR/DME RWY 34R, AMDT 9
07/10/08 | VA | Richmond | Chesterfield County | 8/6327 | RNAV (GPS) RWY 33, ORIG
07/24/08 | FM | Pohnpei Island | Pohnpei Intl | 8/9241 | NDB/DME RWY 9, AMDT 4. THIS NOTAM PUBLISHED IN TL08-19 IS HEREBY RESCINDED IN ITS ENTIRETY
07/24/08 | FM | Pohnpei Island | Pohnpei Intl | 8/9246 | NDB OR GPS-B, AMDT 3. THIS NOTAM PUBLISHED IN TL08-19 IS HEREBY RESCINDED IN ITS ENTIRETY

[FR Doc. E8-20445 Filed 9-10-08; 8:45 am]

BILLING CODE 4910-13-P